DEPARTMENT OF THE INTERIOR

National Park Service

[NPS-NERO-CAJO-20994; PPNECAJO00, PPMPSPD1Z.Y00000]

Selection of the Route of the Captain John Smith Chesapeake National Historic Trails

AGENCY: National Park Service, Interior.

ACTION: Notice of selection of trail route.

SUMMARY: Pursuant to the National Trails System Act, the National Park Service is publishing notice of its selection of the route of the Captain John Smith Chesapeake National Historic Trail. Congress established the trail in 2006, and the Secretary of the Interior designated portions of four rivers as historic components of the trail in 2012.

FOR FURTHER INFORMATION CONTACT: Charles Hunt, Superintendent, Captain John Smith Chesapeake National Historic Trail, National Park Service, 410 Severn Avenue, Suite 314, Annapolis, MD 21403, (410) 260-2471.

SUPPLEMENTARY INFORMATION: In 2006, Congress established the Captain John Smith Chesapeake National Historic Trail as a component of the National Trails System. Captain John Smith Chesapeake National Historic Trail Designation Act (Act), Public Law 109-418, 120 Stat. 2882 (2006). The Act describes the trail as “a series of water routes extending approximately 3,000 miles along the Chesapeake Bay and the tributaries of the Chesapeake Bay in the States of Virginia, Maryland, and Delaware, and in the District of Columbia, that traces the 1607-1609 voyages of Captain John Smith to chart the land and waterways of the Chesapeake Bay,” as generally depicted on the map referenced in the Act, which map is available at https://www.nps.gov/cajo/planyourvisit/maps.htm.

The map indicates that the water routes are located on portions of the Chesapeake Bay and of the James, Chickahominy, Nansemond, Elizabeth, York, Pamunkey, Mattaponi, Piankatank, Rappahannock, Pocomoke, Potomac, Anacostia, Nanticoke, Patuxent, Patapsco, Bush, Susquehanna, Northeast, Elk, and Sassafras Rivers. In 2012, the Secretary of the Interior, acting pursuant to 16 U.S.C. 1245, designated portions of the Susquehanna, Chester, Upper Nanticoke, and Upper James Rivers as historic components of the trail.

To guide management of the trail, the National Park Service prepared a comprehensive management plan, finalized in 2011, that provides a vision and decision-making framework for the trail; identifies significant natural, historical, and cultural resources to be preserved; and describes anticipated cooperative agreements with State and local government agencies, nonprofit organizations, and private entities. The trail route consists of a line on the waters of the Chesapeake Bay and certain of its tributaries tracing Captain John Smith's explorations and certain related natural, historic, or cultural sites or features located on lands abutting or near the water route, all as depicted or described in the trail's comprehensive management plan and related documents.

The National Park Service held a series of public meetings to elicit public input and met with representatives of State and local governments and Indian tribes. A trail conservation strategy and detailed segment plans for the James River and Potomac River were subsequently developed.

Pursuant to 16 U.S.C. 1244(a) and 1246(a)(2), the Secretary of the Interior must select the route for the trail and publish notice of the availability of appropriate maps or descriptions in the Federal Register.

This Federal Register notice announces the route for the Captain John Smith Chesapeake National Historic Trail as a line on the waters of the Chesapeake Bay and certain of its tributaries following the routes generally depicted on the map referenced in the Act or described in the 2012 secretarial order designating portions of the Susquehanna, Chester, Upper Nanticoke, and Upper James Rivers as historic components of the trail. The route also includes certain related natural, historic, or cultural sites or features located on lands abutting or near the designated water route. Both the water route and the related terrestrial sites or features are depicted or described in more detail in the Captain John Smith Chesapeake National Historic Trail Comprehensive Management Plan (2011), A Conservation Strategy for the Captain John Smith Chesapeake National Historic Trail (2013), and segment plans for the James River (2011) and Potomac River (2015), all of which are available at https://www.nps.gov/cajo/getinvolved/planning.htm.

Authority: National Trails System Act, 16 U.S.C. 1244(a)(25) and 1246(a)(2).

Dated: May 17, 2016.
Charles Hunt,
Superintendent, National Park Service.

[FR Doc. 2016-12284 Filed 5-26-16; 8:45 am]

BILLING CODE 4310-WV-P